DEPARTMENT OF HOUSING AND URBAN DEVELOPMENT

[Docket No. FR-5997-N-42]

30-Day Notice of Proposed Information Collection: Housing Contracting With Resident-Owned Business—Application Requirements

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: September 25, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Colette Pollard, Reports Management Officer, QMAC, Department of Housing and Urban Development, 451 7th Street SW., Washington, DC 20410; email Colette.Pollard@hud.gov, or telephone 202-402-3400. This is not a toll-free number. Person with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on December 21, 2016 at FR 93699.

A. Overview of Information Collection

Title of Information Collection: Housing Contracting with Resident-Owned Business—Application Requirements.

OMB Approval Number: 2577-0161.

Type of Request: Reinstatement, with change, of a previously approved collection.

Form Number: None.

Description of the need for the information and proposed use: PHAs that enter into contracts with resident-owned businesses must comply with the requirements/procedures set forth in 24 CFR 963.10, 24 CFR 963.12, 24 CFR 85.36(h), 24 CFR 85.36(i) and other such contract terms that may be applicable to the procurement under the Department's regulations. These requirements include:

• Certified copies of any State, county, or municipal licenses that may be required of the business to engage in the type of business activity for which it was formed. Where applicable, the PHA must obtain a certified copy of its corporate charter or other organizational document that verifies that the business was properly formed in accordance with State law;

• Certification that shows the business is owned by residents, disclosure documents that indicate all owners of the business and each owner's percentage of the business along with sufficient evidence that demonstrates the satisfaction of the PHA that the business has the ability to perform successfully under the terms and conditions of the proposed contract;

• Certification as to the number of contracts awarded, and the dollar amount of each contract award received, under the alternative procurement process; and

• Contract award documents, proof of bonding documents, independent cost estimates and comparable price.

Respondents: (i.e., affected public) Public Housing Agencies and Applicable Resident Entrepreneurs.

Total Estimated Burdens
Information collection | Number of respondents | Frequency of response | Responses per annum | Burden hour per response | Annual burden hours | Hourly cost per response | Annual cost
2577-0161 | 81 | 1 | 81 | 24 | 1,944 | $29.00 | $56,376

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

C. Authority

Section 3507 of the Paperwork Reduction Act of 1995, 44 U.S.C. Chapter 35.

Dated: July 21, 2017.
Colette Pollard,
Department Reports Management Officer, Office of the Chief Information Officer.

[FR Doc. 2017-18101 Filed 8-24-17; 8:45 am]

BILLING CODE 4210-67-P